DEPARTMENT OF ENERGY

Federal Energy Regulatory Commission

Combined Notice of Filings #1

Take notice that the Commission received the following electric rate filings:

Docket Numbers: ER10-2633-016; ER10-2718-017; ER10-2719-017; ER10-2717-016; ER13-55-006.

Applicants: Birchwood Power Partners, L.P., Cogen Technologies Linden Venture, L.P., East Coast Power Linden Holding, L.L.C., EFS Parlin Holdings, LLC, Homer City Generation, L.P.

Description: Triennial Market Power Analysis of Birchwood Power Partners, L.P., et al.

Filed Date: 6/23/14.

Accession Number: 20140623-5056.

Comments Due: 5 p.m. ET 8/22/14.

Docket Numbers: ER10-3124-003; ER10-3129-003; ER10-3130-003; ER10-3132-003; ER10-3314-001; ER10-3137-003.

Applicants: Noble Altona Windpark, LLC, Noble Bliss Windpark, LLC, Noble Chateaugay Windpark, LLC, Noble Clinton Windpark I, LLC, Noble Ellenburg Windpark, LLC, Noble Wethersfield Windpark, LLC.

Description: Triennial Market Power Analysis of Noble Altona Windpark, LLC, et al.

Filed Date: 6/23/14.

Accession Number: 20140623-5067.

Comments Due: 5 p.m. ET 8/22/14.

Docket Numbers: ER11-4055-003; ER12-1470-003; ER10-2977-003; ER14-474-001; ER10-1290-004; ER10-3026-003.

Applicants: Copper Mountain Solar 1, LLC, Energia Sierra Juarez U.S., LLC, Mesquite Power, LLC, Sempra Generation, LLC, San Diego Gas & Electric Company, Termoelectrica U.S. LLC.

Description: Notice of Non-Material Change in Status of Copper Mountain Solar 1, LLC, et. al.

Filed Date: 6/23/14.

Accession Number: 20140623-5061.

Comments Due: 5 p.m. ET 7/14/14.

Docket Numbers: ER12-1436-007; ER14-152-002; ER13-1793-004; ER10-3099-009; ER12-1260-006; ER10-2329-004.

Applicants: Eagle Point Power Generation LLC, Elgin Energy Center, LLC, Hazle Spindle, LLC, RC Cape May Holdings, LLC, Stephentown Spindle, LLC, Vineland Energy LLC.

Description: Triennial Market-Based Rate Update Filing for the Northeast Region and Notice of Non-Material Change in Status of the Rockland Seller.

Filed Date: 6/23/14.

Accession Number: 20140623-5074.

Comments Due: 5 p.m. ET 8/22/14.

Docket Numbers: ER13-2477-004; ER11-3859-009; ER13-2476-004; ER11-3861-008; ER11-3864-009; ER13-2475-004; ER11-3866-009; ER12-192-007; ER11-3867-009; ER11-3857-009; ER11-4266-008.

Applicants: Brayton Point Energy, LLC, Dighton Power, LLC, Elwood Energy, LLC, Empire Generating Co, LLC, EquiPower Resources Management, LLC, Kincaid Generation, L.L.C., Lake Road Generating Company, L.P., Liberty Electric Power, LLC, MASSPOWER, Milford Power Company, LLC, Richland-Stryker Generation LLC.

Description: Triennial Market Power Analysis of the ECP MBR Sellers, et al.

Filed Date: 6/23/14.

Accession Number: 20140623-5055.

Comments Due: 5 p.m. ET 8/22/14.

Docket Numbers: ER14-153-002; ER14-154-002; ER10-3300-007; ER13-2386-002; ER10-3143-013.

Applicants: Gibson City Energy Center, LLC, Grand Tower Energy Center, LLC, La Paloma Generating Company, LLC, Lakeswind Power Partners, LLC, Sabine Cogen, LP.

Description: Notice of Change in Status of the Rockland Sellers.

Filed Date: 6/23/14.

Accession Number: 20140623-5083.

Comments Due: 5 p.m. ET 7/14/14.

Docket Numbers: ER14-2238-000.

Applicants: Repsol Energy North America Corporation.

Description: Application for Market-Based Rate Authorization to be effective 8/19/2014.

Filed Date: 6/20/14.

Accession Number: 20140620-5137.

Comments Due: 5 p.m. ET 7/11/14.

Docket Numbers: ER14-2239-000.

Applicants: Pacific Gas and Electric Company.

Description: Vaca Dixon Non-conforming SGIA Service Agreement No 245 under the WDT to be effective 6/23/2014.

Filed Date: 6/20/14.

Accession Number: 20140620-5143.

Comments Due: 5 p.m. ET 7/11/14.

Docket Numbers: ER14-2240-000.

Applicants: Yasmin Partners LLC.

Description: Yasmin Partners LLC, FERC Electric Tariff to be effective 7/1/2014.

Filed Date: 6/23/14.

Accession Number: 20140623-5018.

Comments Due: 5 p.m. ET 7/14/14.

Docket Numbers: ER14-2241-000.

Applicants: Southern California Edison Company.

Description: Southern California Edison Company submits tariff filing per 35.15: Notices of Cancellation for SGIA & DistribServAgmt with SEPV Mission Creek, LLC to be effective 6/19/2014.

Filed Date: 6/23/14.

Accession Number: 20140623-5062.

Comments Due: 5 p.m. ET 7/14/14.

Docket Numbers: ER14-2242-000.

Applicants: Old Dominion Electric Cooperative, Inc.

Description: Petition for Waiver of PJM Tariff and Operating Agreement Provisions in Order to Make ODEC Whole for Certain January, 2014 Operations of Old Dominion Electric Cooperative.

Filed Date: 6/23/14.

Accession Number: 20140623-5065.

Comments Due: 5 p.m. ET 7/14/14.

Docket Numbers: ER14-2243-000.

Applicants: Deseret Generation & Transmission Co-operative, Inc.

Description: Deseret Generation & Transmission Co-operative, Inc. submits 2014 RIA Annual Update to be effective 1/1/2014.

Filed Date: 6/23/14.

Accession Number: 20140623-5076.

Comments Due: 5 p.m. ET 7/14/14.

Docket Numbers: ER14-2244-000.

Applicants: La Paloma Generating Company, LLC.

Description: La Paloma Generating Company, LLC submits Revised Market-Based Rate Tariff to be effective 8/22/2014.

Filed Date: 6/23/14.

Accession Number: 20140623-5096.

Comments Due: 5 p.m. ET 7/14/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2014.
Nathaniel J. Davis, Sr.,
Deputy Secretary.

[FR Doc. 2014-15226 Filed 6-27-14; 8:45 am]

BILLING CODE 6717-01-P